FEDERAL RETIREMENT THRIFT INVESTMENT BOARD

Sunshine Act; Notice of ETAC Meeting

TIME AND DATE: 10:00 a.m. November 18, 2013.

PLACE: 10th Floor Board Meeting Room, 77 K Street NE., Washington, DC 20002.

STATUS: Open to the public.

MATTERS TO BE CONSIDERED:

Open to the Public

1. Approval of the Minutes of the April 22, 2013 Board Member Meeting

2. Report of the Executive Director on the Thrift Savings Plan status:

a. Proposal to change the asset allocation within the L Funds to increase the G Fund vs. the F Fund

b. Proposal to change the default from the G Fund to an age appropriate L fund

c. Discussion of new Decision Intelligence initiative

d. Briefing on the impact that furloughs and sequestration have had on TSP participants (i.e., spikes in loans/hardship withdrawals)

3. New Business

CONTACT PERSON FOR MORE INFORMATION: Kimberly Weaver, Director, Office of External Affairs, (202) 942-1640.

Dated: November 8, 2013.
James B. Petrick,
Secretary, Federal Retirement Thrift Investment Board.

[FR Doc. 2013-27260 Filed 11-8-13; 4:15 pm]

BILLING CODE 6760-01-P